DEPARTMENT OF ENERGY

Federal Energy Regulatory Commission

Combined Notice of Filings #1

Take notice that the Commission received the following electric rate filings:

Docket Numbers: ER10-2269-001, ER10-2285-001; ER10-2270-001; ER10-2271-001; ER10-2301-001; ER10-2272-001; ER10-2273-001; ER10-2306-001.

Applicants: New York State Electric & Gas Corp., Rochester Gas & Electric Corporation, Central Maine Power Company, Hartford Steam Company, Carthage Energy, LLC, PEI Power II, LLC, Energetix, Inc., NYSEG Solutions, Inc.

Description: Notice of Non-Material Change in Status of Iberdrola USA Companies.

Filed Date: 07/21/2011.

Accession Number: 20110721-5206.

Comment Date: 5 p.m. Eastern Time on Thursday, August 11, 2011.

Docket Numbers: ER10-3142-001, ER10-3145-001, ER10-3147-001, ER10-3148-001, ER10-3114-001, ER10-3116-001, ER10-3118-001, ER10-3120-001, ER10-3121-001, ER11-2036-001, ER10-3126-001, ER10-3128-001, ER10-3131-001, ER10-1800-001, ER10-3136-001, ER11-2701-002.

Applicants: Mountain View Power Partners, LLC, Indianapolis Power & Light Company, AES Eastern Energy, LP, AES Energy Storage, LLC, AES Alamitos, LLC, AES Redondo Beach, LLC, Condon Wind Power, LLC, AES Huntington Beach, L.C., AES Armenia Mountain Wind, LLC, AES Creative Resources, L.P., AES ES Westover, LLC, AES Ironwood, LLC, AES Red Oak, L.L.C., AES Laurel Mountain, LLC, AEE2, LLC, Mountain View Power Partners IV, LLC.

Description: Supplemental Information to triennial market power analysis of AEE2, LLC, et al.

Filed Date: 07/21/2011.

Accession Number: 20110721-5083.

Comment Date: 5 p.m. Eastern Time on Monday, August 29, 2011.

Docket Numbers: ER11-3769-001.

Applicants: WSPP Inc.

Description: WSPP Inc. submits tariff filing per 35.17(b): Amendment to Incorporation of Rate Schedule into WSPP Agreement (Westar Energy) to be effective 6/1/2011.

Filed Date: 07/21/2011.

Accession Number: 20110721-5081.

Comment Date: 5 p.m. Eastern Time on Thursday, August 11, 2011.

Docket Numbers: ER11-3979-002.

Applicants: PJM Interconnection, LLC, Midwest Independent Transmission System Operator, Inc.

Description: PJM Interconnection, LLC submits tariff filing per 35: Errata to Compliance Filing in Docket No. ER11-3979 correcting Att 2 Sec 6.6 to be effective 6/16/2011.

Filed Date: 07/21/2011.

Accession Number: 20110721-5128.

Comment Date: 5 p.m. Eastern Time on Thursday, August 11, 2011.

Docket Numbers: ER11-4082-000.

Applicants: Southwestern Public Service Company.

Description: Southwestern Public Service Company submits tariff filing per 35.13(a)(2)(iii: 7-20-11_RS114 SPS-Central Valley to be effective 10/1/2010.

Filed Date: 07/21/2011.

Accession Number: 20110721-5000.

Comment Date: 5 p.m. Eastern Time on Thursday, August 11, 2011.

Docket Numbers: ER11-4083-000.

Applicants: Southwestern Public Service Company.

Description: Southwestern Public Service Company submits tariff filing per 35.13(a)(2)(iii: 7-20-11_RS115 SPS-Farmers to be effective 10/1/2010.

Filed Date: 07/21/2011.

Accession Number: 20110721-5002.

Comment Date: 5 p.m. Eastern Time on Thursday, August 11, 2011.

Docket Numbers: ER11-4084-000.

Applicants: Southwestern Public Service Company.

Description: Southwestern Public Service Company submits tariff filing per 35.13(a)(2)(iii: 7-20-11_RS116 SPS-Lea County to be effective 10/1/2010.

Filed Date: 07/21/2011.

Accession Number: 20110721-5003.

Comment Date: 5 p.m. Eastern Time on Thursday, August 11, 2011.

Docket Numbers: ER11-4085-000.

Applicants: Southwestern Public Service Company.

Description: Southwestern Public Service Company submits tariff filing per 35.13(a)(2)(iii: 7-20-11_RS117 SPS-Roosevelt to be effective 10/1/2010.

Filed Date: 07/21/2011.

Accession Number: 20110721-5004.

Comment Date: 5 p.m. Eastern Time on Thursday, August 11, 2011.

Docket Numbers: ER11-4087-000.

Applicants: Alabama Power Company.

Description: Alabama Power Company submits tariff filing per 35.13(a)(2)(iii: 2011 Hartford NITSA Filing to be effective 7/1/2011.

Filed Date: 07/21/2011.

Accession Number: 20110721-5050.

Comment Date: 5 p.m. Eastern Time on Thursday, August 11, 2011.

Docket Numbers: ER11-4088-000.

Applicants: PJM Interconnection, LLC.

Description: PJM Interconnection, LLC submits tariff filing per 35.13(a)(2)(iii: Queue Position No. W3-123? Original Service Agreement No. 2970 to be effective 6/21/2011.

Filed Date: 07/21/2011.

Accession Number: 20110721-5084.

Comment Date: 5 p.m. Eastern Time on Thursday, August 11, 2011.

Docket Numbers: ER11-4089-000.

Applicants: PacifiCorp.

Description: PacifiCorp submits tariff filing per 35.13(a)(2)(iii: BPA NITSA (UIUC) to be effective 10/1/2011.

Filed Date: 07/21/2011.

Accession Number: 20110721-5113.

Comment Date: 5 p.m. Eastern Time on Thursday, August 11, 2011.

Docket Numbers: ER11-4090-000.

Applicants: Pacific Gas and Electric Company.

Description: Pacific Gas and Electric Company submits tariff filing per 35.13(a)(2)(iii: City of Ukiah WPA and NCPA IA to be effective 7/22/2011.

Filed Date: 07/21/2011.

Accession Number: 20110721-5127.

Comment Date: 5 p.m. Eastern Time on Thursday, August 11, 2011.

Docket Numbers: ER11-4091-000.

Applicants: Arizona Public Service Company.

Description: Arizona Public Service Company submits tariff filing per 35.13(a)(2)(iii: New, Amended, and Cancelled Exhibit B's in APS Rate Schedule No. 217 to be effective 9/19/2011.

Filed Date: 07/21/2011.

Accession Number: 20110721-5140.

Comment Date: 5 p.m. Eastern Time on Thursday, August 11, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Dated: July 22, 2011.
Nathaniel J. Davis, Sr.,
Deputy Secretary.

[FR Doc. 2011-19088 Filed 7-27-11; 8:45 am]

BILLING CODE 6717-01-P